DEPARTMENT OF THE INTERIOR

National Park Service

[NPS-WASO-NRNHL-22204; PPWOCRADI0, PCU00RP14.R50000]

National Register of Historic Places; Notification of Pending Nominations and Related Actions

AGENCY: National Park Service, Interior.

ACTION: Notice.

SUMMARY: The National Park Service is soliciting comments on the significance of properties nominated before October 8, 2016, for listing or related actions in the National Register of Historic Places.

DATES: Comments should be submitted by November 29, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before October 8, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Cook, Neil and Louise, House, (North Central Phoenix Farmhouses and Rural Estate Homes, 1895-1959), 5725 North 20th Pl., Phoenix, 16000782

COLORADO

Gunnison County

Marble Jailhouse, 209 E. State St., Marble, 16000783

Larimer County

Schlichter, E.A., House, 1312 S. College Ave., Fort Collins, 16000784

ILLINOIS

Vermilion County

United States Post Office and Court House, 201 North Vermilion St., Danville, 16000785

MAINE

York County

Timber Point, 2 Timber Point Rd., Rachel Carson National Wildlife Refuge, Biddeford, 16000786

RHODE ISLAND

Providence County

Edgewood Historic District—Sally Greene Homestead Plats, (Edgewood Neighborhood, Cranston, R.I. MPS) Fairview and Glen Aves., Harbour Terr., Hudson Pl., Massasoit Ave., and portions of Broad St. & Narragansett Blvd., Cranston, 16000787

TENNESSEE

Knox County

Giffin Grammar School, 1834 Beech St., Knoxville, 16000788

Marion County

Marion Post No. 62, 300 Elm Ave., South Pittsburg, 16000789

Sevier County

Shults Grove Methodist Church, Rocky Flats Rd. at East Ball Hollow Rd., Cosby, 16000790

VERMONT

Addison County

Stone, Ruth, House, 788 Hathaway Rd., Goshen, 16000791

VIRGINIA

Accomack County

Locustville Academy, 28055 Drummondtown Rd., Locustville, 16000792

Amherst County

Elon Village Library, Corner of Younger Dr. (VA 703) and Camden Dr. (VA 797), Elon, 16000793

Botetourt County

Blue Ridge Hall, 11593 Lee Hwy., Fincastle, 16000794

Reynolds Property, 514 Rocky Rd., Buchanan, 16000795

Essex County

Edenetta, 6514 Tidewater Trail, Chance, 16000796

Frederick County

Springdale, 1663 Apple Pie Ridge Rd., Winchester, 16000797

Hampton Independent city

Hampton National Guard Armory, 504 North King St.,

Orange County

Mount Calvary Baptist Church, 11229 Kendall Rd., Orange, 16000799

Richmond Independent city

Virginia Commission for the Blind, 3003 Parkwood Ave., Richmond, 16000800

Suffolk Independent city

Suffolk Peanut Company, The, 303 South Saratoga St., Suffolk, 16000801

Wythe County

Reed Creek Mill, 1565 S. Church St., Wytheville, 16000802

WISCONSIN

Rusk County

McFarlane, Harold J. and Angus, Stone House and Barn, N6435 Hackett Rd., Town of Hawkins, 16000803

Authority: 60.13 of 36 CFR part 60.

Dated: November 7, 2016.
J. Paul Loether,
Chief, National Register of Historic Places/National Historic Landmarks Program.

[FR Doc. 2016-27242 Filed 11-10-16; 8:45 am]

BILLING CODE 4312-52-P